DEPARTMENT OF AGRICULTURE

Submission for OMB Review; Comment Request

April 29, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 3, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Communicable Diseases in Horses.

OMB Control Number: 0579-0127.

Summary of Collection: Under the authority of the Animal Health Protection Act (7 U.S.C. 8301 et seq.), the Animal and Plant Health Inspection Service (APHIS) of the U.S. Department of Agriculture (USDA) regulates the importation and interstate movement of animals and animal products, and conducts various other activities to protect the health of U.S. livestock and poultry. Equine infectious anemia (EIA) is an infectious and potentially fatal viral disease of equines. There is no vaccine or treatment for the disease. It is often difficult to differentiate from other fever-producing diseases, including anthrax, influenza, and equine encephalitis. The regulations in 9 CFR 75.4 govern the interstate movement of equines that have tested positive to an official test for EIA (EIA reactors) and provide for the approval of laboratories, diagnostic facilities, and research facilities. Ensuring the safe movement of these horses requires the use of information collection activities, including an EIA laboratory test form, a certificate or permit for the interstate movement of an EIA reactor, a supplemental investigation form if a horse tests positive for EIA, agreements, request for hearing, and written notification of withdrawal of approval.

Need and Use of the Information: The information collected from forms, APHIS VS 10-11, Equine Infectious Anemia Laboratory Test; VS 10-12, Equine Infectious Anemia Supplemental Investigation; and VS 1-27, Permit for the Movement of Restricted Animals, VS-10-15, Agreement to Conduct Equine Infectious Anemia Testing, VS-10-16, Application to Conduct Laboratory Equine Infectious Anemia Testing, VS 10-17, Laboratory Inspection Checklist for Equine Infectious Anemia Testing, will be used to prevent the spread of equine infectious anemia. Regulations also require the use an Agreement for Approved Livestock Facilities, Request for Hearing, Written Notification of Approval or Withdrawal, Review of Requirements and Interview, Memorandum of Recommendation and Justification, Monthly Summary Reporting, Denial or Withdrawal of Laboratory Approval. Without the information it would be impossible for APHIS to effectively regulate the interstate movement of horses infected with EIA.

Description of Respondents: Farms; Business or other for-profit; State, Local and Tribal Government.

Number of Respondents: 235,018.

Frequency of Responses: Reporting: On occasion.

Total Burden Hours: 93,030.

Ruth Brown,
Departmental Information Collection Clearance Officer.

[FR Doc. 2021-09361 Filed 5-3-21; 8:45 am]

BILLING CODE 3410-34-P